DEPARTMENT OF ENERGY

Federal Energy Regulatory Commission

Privacy Act of 1974; System of Records

AGENCY: Federal Energy Regulatory Commission (FERC), Department of Energy (DOE).

ACTION: Notice of a modified system of records.

SUMMARY: In accordance with the Privacy Act of 1974, all agencies are required to publish in the Federal Register a notice of their systems of records. Notice is hereby given that the Federal Energy Regulatory Commission (FERC) is publishing a notice of modifications to an existing FERC system of records titled “Commission Investigation Files (FERC-24)” previously titled “Commission Miscellaneous Investigation File.”

DATES: Comments on this modified system of records must be received no later than 30 days after date of publication in the Federal Register. If no public comment is received during the period allowed for comment or unless otherwise published in the Federal Register by FERC, the modified system of records will become effective a minimum of 30 days after date of publication in the Federal Register. If FERC receives public comments, FERC shall review the comments to determine whether any changes to the notice are necessary.

ADDRESSES: Comments may be submitted in writing to Federal Energy Regulatory Commission, 888 First Street NE, Washington, DC 20426, or electronically to privacy@ferc.gov. Comments should indicate that they are submitted in response to “Commission Investigation Files (FERC-24).”

FOR FURTHER INFORMATION CONTACT: Mittal Desai, Chief Information Officer & Senior Agency Official for Privacy, Office of the Executive Director, Federal Energy Regulatory Commission, 888 First Street NE, Washington, DC 20426, privacy@ferc.gov, (202) 502-6432.

SUPPLEMENTARY INFORMATION: In accordance with the Privacy Act of 1974, FERC is updating this notice and republishing it in its entirety. This notice has one new routine use, routine use 12, and changes to routine uses 6, 9, 11, and 13. In addition, FERC is amending the following sections to reflect changes made since the publication of the last notice in the Federal Register: dates; addresses; for further information contact; system name; system manager(s); purpose(s) of the system; categories of individuals covered by the system; categories of records in the system; records source categories; policies and practices for storage of records; policies and practices for retention and disposal of records; administrative, technical, and physical safeguards; records access procedures; contesting records procedures; notification procedures; exemptions promulgated for the system; and history.

SYSTEM NAME AND NUMBER:

Commission Investigation File (FERC-24).

SECURITY CLASSIFICATION:

Unclassified.

SYSTEM LOCATION:

Federal Energy Regulatory Commission, Office of the Executive Director, Chief Human Capital Officer (CHCO), Workforce Relations Division, 888 First Street NE, Washington, DC 20426.

SYSTEM MANAGER(S):

Director, Workforce Relations Division, Chief Human Capital Officer (CHCO), Office of the Executive Director, Federal Energy Regulatory Commission, 888 First Street NE, Washington, DC 20426, (202) 502-6475.

AUTHORITY FOR MAINTENANCE OF THE SYSTEM:

The Rehabilitation Act, 29 U.S.C. 791 et. seq.

Title VII of the Civil Rights Act, 42 U.S.C. 2000e et. seq.

Executive Order 13164.

Executive Order 13991.

29 CFR part 1614—Federal Sector Equal Employment Opportunity.

5 CFR part 735—Employee responsibilities and conduct.

PURPOSE(S) OF THE SYSTEM:

The purpose of the system is to maintain documentation on internal investigations that require collection of information by management to process requests and/or render decisions in accordance with applicable law, rule, or regulations. This may include, among other considerations, documentation related to requests for reasonable accommodation, medical or religious accommodation, religious compensatory time off; documentation for administrative investigations related to anti-harassment allegations, ethical violations, and other allegations of misconduct; as well as documentation to render decisions and appeals stemming from any other type of investigation conducted internally.

CATEGORIES OF INDIVIDUALS COVERED BY THE SYSTEM:

The categories of individuals on whom records are maintained are: (1) employees requesting exception to agency policy, adjustment to the job or adjustment to the work environment under applicable law, rules or regulations; (2) employees petitioning for informal inquiry into allegations of workplace harassment or other misconduct that are not covered under Title VII, employees that are the subject of such allegations, or employees with knowledge of such allegations; (3) employees' beneficiaries and dependents; (4) employees with members of the public such as contractors and business entities; (5) applicants and members of the public requesting reasonable accommodation; (6) attorneys representing litigants; and (7) other litigants.

CATEGORIES OF RECORDS IN THE SYSTEM:

The categories of records maintained in the system include name, employee ID number; contact information (such as address, email address, and telephone number); signature; role; office; formal reports of inquiry and supporting documentation; records of actions taken resulting from the inquiry and supporting documentation for the inquiry and the response; medical forms; medical documents; documentation from healthcare providers; religious affiliation information; pleadings; opinions; briefs; decisions; type of accommodation; determination of the accommodation, which includes name, date, and signature; other related supporting documents; and evidentiary and non-evidentiary information relating to a case or controversy in an administrative or litigation proceeding.

RECORD SOURCE CATEGORIES:

Records are obtained from employees; contractors; supervisors; office directors; Office of the General Counsel staff; Workforce Relations Division Director; and/or Workforce Relations Specialists. Records are derived from information supplied by the employee; or created by management officials to summarize findings and/or develop recommendations for action.

ROUTINE USES OF RECORDS MAINTAINED IN THE SYSTEM, INCLUDING CATEGORIES OF USERS AND PURPOSES OF SUCH USES:

In addition to those disclosures generally permitted under 5 U.S.C. 552a(b) of the Privacy Act, information maintained in this system may be disclosed to authorized entities outside FERC for purposes determined to be relevant and necessary as a routine use pursuant to 5 U.S.C. 552a(b)(3) as follows:

1. To appropriate agencies, entities, and persons when (1) FERC suspects or has confirmed that there has been a breach of the system of records; (2) FERC has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm.

2. To another Federal agency or Federal entity, when FERC determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

3. To a congressional office from the record of an individual in response to an inquiry from that congressional office made at the request of that individual.

4. To the Equal Employment Opportunity Commission (EEOC) when requested in connection with investigations of alleged or possible discriminatory practices, examination of Federal affirmative employment programs, or other functions of the Commission as authorized by law or regulation.

5. To the Federal Labor Relations Authority or its General Counsel when requested in connection with investigations of allegations of unfair labor practices or matters before the Federal Service Impasses Panel.

6. To disclose information to another Federal agency, to a court, or a party in litigation before a court or in an administrative proceeding being conducted by a Federal agency, when the Government is a party to the judicial or administrative proceeding. In those cases where the Government is not a party to the proceeding, records may be disclosed if a subpoena has been signed by a judge.

7. To the Department of Justice (DOJ) for its use in providing legal advice to FERC or in representing FERC in a proceeding before a court, adjudicative body, or other administrative body, where the use of such information by the DOJ is deemed by FERC to be relevant and necessary to the advice or proceeding, and such proceeding names as a party in interest: (a) FERC; (b) any employee of FERC in his or her official capacity; (c) any employee of FERC in his or her individual capacity where DOJ has agreed to represent the employee; or (d) the United States, where FERC determines that litigation is likely to affect FERC or any of its components.

8. To non-Federal Personnel, such as contractors, agents, or other authorized individuals performing work on a contract, service, cooperative agreement, job, or other activity on behalf of FERC or Federal Government and who have a need to access the information in the performance of their duties or activities.

9. To the National Archives and Records Administration in records management inspections and its role as Archivist.

10. To the Merit Systems Protection Board or the Board's Office of the Special Counsel, when relevant information is requested in connection with appeals, special studies of the civil service and other merit systems, review of Office of Personnel Management (OPM) rules and regulations, and investigations of alleged or possible prohibited personnel practices.

11. To appropriate Federal, State, or local agency responsible for investigating, prosecuting, enforcing, or implementing a statute, rule, regulation, or order, if the information may be relevant to a potential violation of civil or criminal law, rule, regulation, order.

12. To appropriate agencies, entities, and person(s) that are a party to a dispute, when FERC determines that information from this system of records is reasonably necessary for the recipient to assist with the resolution of the dispute; the name, address, telephone number, email address, and affiliation; of the agency, entity, and/or person(s) seeking and/or participating in dispute resolution services, where appropriate.

13. To Office of Personnel Management (OPM) and Government Accountability Office (GAO) during the course of on-site inspections or human resources audits.

POLICIES AND PRACTICES FOR STORAGE OF RECORDS:

Records are maintained in paper or electronic format. Electronic records are stored on a Shared Drive. Access to electronic records is controlled by the organization's Single Sign-On and Multi-Factor Authentication solution. Paper records are maintained in lockable file cabinets in a lockable room. Data center buildings are guarded and monitored by security personnel, cameras, ID checks, and other physical security measures. Physical access to the server rooms is limited to authorized personnel only. Access to electronic and paper records is restricted to those employees whose official duties require access.

POLICIES AND PRACTICES FOR RETRIEVAL OF RECORDS:

Records may be retrieved by employee's name or employee ID number.

POLICIES AND PRACTICES FOR RETENTION AND DISPOSAL OF RECORDS:

Records are retained and disposed of in accordance with the schedule approved under the National Archives and Records Administration's General Records' Schedule 2.3: Employee Relations Records—as follows:

• Item 010: Disposition Authority: DAA-GRS2022-0001-0001. Temporary. Destroy when 3 years old, but longer retention is authorized if required for business use.

• Item 020: Disposition Authority: DAA-GRS2022-0001-0002. Temporary. Destroy 3 years after employee separation from the agency or all appeals are concluded, whichever is later, but longer retention is authorized if required for business use.

ADMINISTRATIVE, TECHNICAL, AND PHYSICAL SAFEGUARDS:

See Policies and Practices for Storage of Records.

RECORD ACCESS PROCEDURES:

Individuals requesting access to the contents of records must submit a request through the Freedom of Information Act (FOIA) office. The FOIA website is located at: https://www.ferc.gov/foia. Requests may be submitted through the following portal: https://www.ferc.gov/enforcement-legal/foia/electronic-foia-privacy-act-request-form. Written requests for access to records should be directed to: Director, Office of External Affair, Federal Energy Regulatory Commission, 888 First Street NE, Washington, DC 20426.

CONTESTING RECORD PROCEDURES:

See Records Access Procedures.

NOTIFICATION PROCEDURES:

Generalized notice is provided by the publication of this notice. For specific notice, see Records Access Procedure, above.

EXEMPTIONS PROMULGATED FOR THE SYSTEM:

This system of records is exempted from certain provisions of the Privacy Act under Exemption 2 of the Freedom of Information Act which exempts from mandatory disclosure records that are “related solely to the internal personnel rules and practices of an agency. The exemptions claimed for this system are pursuant to 5 U.S.C. 552a(k)(2).

HISTORY:

65 FR 21748 (April 24, 2000); 86 FR 64923 (November 19, 2021).

Dated: November 14, 2024.
Carlos D. Clay,
Acting Deputy Secretary.

[FR Doc. 2024-27163 Filed 11-20-24; 8:45 am]

BILLING CODE 6717-01-P